DEPARTMENT OF ENERGY

Federal Energy Regulatory Commission

[Docket No. EC04-152-000, et al.]

Great Lakes Hydro America, LLC, et al.; Electric Rate and Corporate Filings

September 9, 2004.

The following filings have been made with the Commission. The filings are listed in ascending order within each docket classification.

1. Great Lakes Hydro America, LLC, GNE Holding, ULC, GNE L.P., GNE Trust, Great Lakes Power Trust, Great Lakes Hydro Income Fund

[Docket No. EC04-152-000]

Take notice that on August 31, 2004, Great Lakes Hydro America, LLC, GNE Holding ULC, GNE L.P., GNE GP Inc., GNE Trust, Great Lakes Power Trust, and Great Lakes Hydro Income Fund submitted an application pursuant to section 203 of the Federal Power Act for authorization to complete the proposed intra-corporate reorganization described more fully in the Application.

Comment Date: 5 p.m. eastern time on September 21, 2004.

2. Georgia Power Company

[Docket No. EC04-153-000]

Take notice that on September 1, 2004, Georgia Power Company (Georgia Power) submitted an application pursuant to section 203 of the Federal Power Act for authorization of a disposition of jurisdictional facilities. Georgia Power states that the transfer will be made pursuant to an Agreement of Exchange which provides for Georgia Power to sell and exchange certain transmission facilities with Georgia Transmission Corporation.

Comment Date: 5 p.m. eastern standard time on September 22, 2004

3. InterGen (North America), Inc., Indigo Generation LLC, Larkspur Energy LLC, Wildflower Energy LP, Diamond Generating Corporation

[Docket No. EC04-154-000 ]

Take notice that on September 3, 2004, InterGen (North America), Inc., Indigo Generation LLC, Larkspur Energy LLC, Wildflower Energy LP and Diamond Generating Corporation (collectively, the Applicants) submitted an application pursuant to section 203 of the Federal Power Act for authorization of an indirect disposition of jurisdictional facilities. Applicants state that the proposed indirect disposition of jurisdictional facilities will occur in connection with the sale by InterGen (North America) to Diamond Generating Corporation of all of its interests in Wildflower Development LLC. Wildflower Development LLC indirectly owns all of the equity interests of Wildflower Energy LP, which owns and operates two gas-fired, simple-cycle, electric generating facilities in Southern California with an approximate 232 MW nameplate generation capacity, through its wholly-owned subsidiaries, Indigo Generation LLC and Larkspur Energy LLC.

Comment Date: 5 p.m. eastern time on September 24, 2004.

4. Consolidated Edison Company of New York v. Public Service Electric and Gas Company, PJM Interconnection, L.L.C., New York Independent System Operator, Inc.

[Docket No. EL02-23-004]

Take notice that on September 1, 2004, in compliance with Opinion No. 476 (Consolidated Edison Co. of New York v. Public Service Electric & Gas Co. 108 FERC ¶ 61,120 (2004)), PJM Interconnection, L.L.C. (PJM) submitted a compliance filing certifying that the provisions of the PJM Open Access Transmission Tariff provide the PJM Market Monitoring Unit with the authority necessary to pursue the investigations required by Opinion No. 476, and amending the confidentiality provisions of the Amended and Restated Operating Agreement of PJM.

PJM states that copies of this filing have been served on all PJM members, the utility regulatory commissions in the PJM region, and all persons on the official service list.

Comment Date: 5 p.m. eastern time on September 22, 2004.

5. Consolidated Edison Company of New York v. Public Service Electric and Gas Company, PJM Interconnection, L.L.C., and New York Independent System Operator, Inc.

[Docket No. EL02-23-005]

Take notice that, on September 1, 2004, the New York Independent System Operator, Inc. (NYISO) submitted a compliance filing pursuant to Opinion No. 476 issued August 2, 2004, in Docket No. EL02-23-000.

The NYISO states that copies of this filing are being served on all parties designated on the official service list maintained by the Secretary of the Commission in these proceedings. The NYISO states that it is also serving a copy of this filing on all parties that have executed Service Agreements under the NYISO's OATT or Services Tariff, the New York State Public Service Commission and to the electric utility regulatory agencies in New Jersey and Pennsylvania.

Comment Date: 5 p.m. eastern time on September 22, 2004.

6. California Independent System Operator, Inc.

[Docket No. EL04-132-000]

Take notice that on September 7, 2004, the California Independent System Operator, Inc. (CAISO) submitting a filing requesting a conditional temporary waiver to potentially advance the deadline for submitted Supplemental Energy Bids in accordance with the ISO Tariff.

Comment Date: 5 p.m. eastern time on September 14, 2004.

7. California Independent System Operator Corporation

[Docket No. EL04-133-000]

Take notice that on September 7, 2004, the California Independent System Operator Corporation (ISO) submitted a petition to modify the Transmission Control Agreement (TCA), under which the ISO assumes Operational Control of the transmission facilities that constitute the ISO Controlled Grid. In the alternative, the ISO submitted its pleading as a complaint against the TCA for being unjust and unreasonable and unduly discriminatory if the ISO is precluded from assuming Operational Control of the portion of the upgrade of Path 15 owned by Western Area Power Administration, Sierra Nevada Region (Western).

The ISO states that this filing has been served upon the Public Utilities Commission of the State of California, the California Energy Commission, the California Electricity Oversight Board, the Participating TOs, Western, and all parties with effective Scheduling Coordinator Agreements under the ISO Tariff. In addition, the ISO has posted this filing on the ISO home page.

Comment Date: 5 p.m. eastern time on September 29, 2004.

8. PJM Interconnection, L.L.C.

[Docket No. ER03-406-006]

Take notice that on September 1, 2004, PJM Interconnection, L.L.C. (PJM) pursuant to the Commission's Order issued August 2, 2004, in Docket Nos. ER04-406-004 and 005, submitted revisions to the PJM Open Access Transmission Tariff (PJM Tariff) and the Amended and Restated Operating Agreement of PJM Interconnection, L.L.C. (Operating Agreement) to state that the initial allocation of financial transmission rights in new zones will be filed with the Commission under section 205 of the Federal Power Act. PJM requests an effective date of September 1, 2004, for the proposed revisions.

PJM states that copies of the filing were served on all PJM members, the utility regulatory commissions in the PJM region, and all persons on the Commission's service list for this proceeding.

Comment Date: 5 p.m. eastern time on September 22, 2004.

9. Devon Power LLC, et al.

[Docket Nos. ER03-563-043 and EL04-102-003]

Take notice that on August 31, 2004, ISO New England Inc. pursuant to the Commission's Order issued June 2, 2004, in Docket Nos. ER03-563-030 and EL04-102-000, submitted a report regarding progress made in the siting, permitting and construction of transmission and generation upgrades within the New England control area.

Comment Date: 5 p.m. eastern time on September 21, 2004.

10. Alabama Power Company

[Docket No. ER04-815-000]

Take notice that on September 1, 2004, Alabama Power Company (APC), filed with the Federal Energy Regulatory Commission a Notice of Cancellation of its May 5, 2004, filing of the Transmission Facilities Agreement between APC and Georgia Power Company.

Comment Date: 5 p.m. eastern time on September 22, 2004.

11. California Independent System Operator Corporation

[Docket No. ER04-835-003]

Take notice that on September 2, 2004, the California Independent System Operator Corporation (ISO) submitted a supplemental filing to the compliance filing submitted by the ISO on August 10, 2004, in Docket No. ER04-835-002.

The ISO states that this filing has been served upon all parties on the official service list for the captioned docket. In addition, the ISO has posted this filing on the ISO home page.

Comment Date: 5 p.m. eastern time on September 23, 2004.

12. PPL University Park, LLC

[Docket No. ER04-911-002]

Take notice that, on September 2, 2004, PPL University Park, LLC submitted a compliance filing pursuant to the Commission's Order issued August 3, 2004, in Docket No. ER04-911-000, 108 FERC ¶ 61,122 (2004).

PPL University Park, LLC states that copies of the filing were served on parties on the official service list in the above-captioned proceeding.

Comment Date: 5 p.m. eastern time on September 23, 2004.

13. PJM Interconnection, L.L.C.

[Docket No. ER04-1058-001]

Take notice that on September 3, 2004, PJM Interconnection, L.L.C. (PJM), submitted for filing an amendment to its July 28, 2004, filing of an executed interim interconnection service agreement among PJM, FPL Energy Marcus Hook, L.P., and PECO Energy Company (FPL Interim ISA) to specify how the provisions of the FPL Interim ISA correspond or differ with the form of interim interconnection service agreement in Attachment O-1 of the PJM Open Access Transmission Tariff accepted by the Commission on July 8, 2004, in PJM Interconnection, L.L.C., 108 FERC ¶ 61,025 (2004).

PJM states that copies of this filing were served upon the parties to the agreement and the state regulatory commissions within the PJM region, and all parties on the official service list compiled by the Secretary in this proceeding.

Comment Date: 5 p.m. eastern time on September 24, 2004.

14. Starlight Energy, L.P.

[Docket No. ER04-1131-001]

Take notice that on September 2, 2004, Starlight Energy, LP (Starlight) filed a supplement to its application filed on August 16, 2004, in Docket No. ER04-1131-000 for market-based rates as power marketer. Starlight states that the supplemental information provides further information about the owners of Starlight and provides additional information in the tariff sheets regarding Market Behavior Rules.

Comment Date: 5 p.m. eastern time on September 23, 2004.

15. Wisconsin Electric Power Company

[Docket No. ER04-1172-000]

Take notice that on September 1, 2004, Wisconsin Electric Power Company (Wisconsin Electric) submitted proposed amendments to Exhibit 1 of the Control Area Operations Coordination Agreement between Wisconsin Electric and Wisconsin Public Service Corporation designated as Wisconsin Electric's Rate Schedule FERC No. 99. Wisconsin Electric states that purpose of the proposed amendment is to reflect the relocation of certain metering equipment set forth in Exhibit 1.

Wisconsin Electric states that copies of the filing were served upon Wisconsin Public Service Corporation and the Public Service Commission of Wisconsin.

Comment Date: 5 p.m. eastern time on September 22, 2004.

16. Westar Energy, Inc.

[Docket ER04-1173-000]

Take notice that on September 1, 2004, Westar Energy, Inc. (Westar) submitted for filing a Notice of Cancellation for Rate Schedule FERC No. 134, an Electric Interconnection Agreement between Westar and the City of Augusta, Kansas.

Westar states that copies of this filing were served on the City of Augusta, Kansas and the Kansas Corporation Commission.

Comment Date: 5 p.m. eastern time on September 22, 2004.

17. Xcel Energy Services Inc.

[Docket No. ER04-1174-000]

Take notice that on September 2, 2004, Xcel Energy Services Inc. (XES), on behalf of its affiliates, Public Service Company of Colorado (PSCo) and Southwestern Public Service Company (SPS) submitted changes in rates applicable to the use of the respective transmission systems of PSCo and SPS set forth in Schedules 1, 2, 3, 5, 6, 7 and 8 and Attachment H to the Xcel Energy Open Access Transmission Tariff (Xcel Energy OATT); a new Attachment O to the Xcel Energy OATT that sets forth a formula to be used annually to update rates for transmission service on the PSCo and SPS systems; changes in network transmission service charges recovered under PSCo's power sales contracts applicable to Grand Valley Rural Power Lines, Inc., Intermountain Rural Electric Association, Yampa Valley Electric Association, Inc., the Town of Julesburg, Colorado, the City of Burlington, Colorado, and the Town of Center, Colorado; and changes in rates for network and ancillary services charged to Municipal Energy Association of Nebraska, Tri-State Generation & Transmission Association, Inc. and Cheyenne Light, Fuel & Power Company for use of the PSCo system under the Xcel Energy OATT and Golden Spread Electric Cooperative, Inc. for use of the SPS system under the Xcel Energy OATT.

XES states that it is making this filing to update rates for transmission and ancillary services, to adopt a formula rate approach to determining and keeping current rates for the use of the PSCo and SPS transmission systems, and in compliance with the Commission's March 12, 1997, order in Docket No. ER96-2572-000.

XES states that it has served a copy of this transmittal letter, the revised tariff sheets and statements BG and BH on each of the affected customers. XES further states that it has served a complete copy of the filing on the Colorado Public Utilities Commission, the Public Utility Commission of Texas, the New Mexico Public Regulation Commission, the Oklahoma Corporation Commission and the Kansas Corporation Commission.

Comment Date: 5 p.m. eastern time on September 23, 2004.

18. PJM Interconnection, L.L.C.

[Docket No. ER04-1175-000]

Take notice that on September 1, 2004, PJM Interconnection, L.L.C. (PJM) submitted revisions to the PJM Open Access Transmission Tariff and the Amended and Restated Operating Agreement of PJM Interconnection, L.L.C. to establish separate zones for the provision and pricing of regulation and spinning reserves, and to clarify the provisions on load-shedding, to reflect stipulations approved by the State utility regulatory commissions of Kentucky and Virginia in connection with the application of American Electric Power operating companies to transfer control of transmission facilities to PJM.

PJM proposes an effective date of October 1, 2004, for the proposed revisions, to the extent the Commission can issue its order on the tariff revisions before October 1, 2004, and if the Commission does not act before October 1, 2004, PJM proposes that these changes become effective on November 1, 2004.

PJM states that copies of the filing were served on all PJM members and the utility regulatory commissions in the PJM region.

Comment Date: 5 p.m. eastern time on September 22, 2004.

19. Southern California Edison Company

[Docket No. ER04-1176-000]

Take notice that on September 2, 2004, Southern California Edison Company (SCE) submitted proposed revisions to SCE's Transmission Owner Tariff, FERC Electric Tariff, Second Revised Volume No. 6, Appendix VI, to increase SCE's Reliability Services Revenue Requirement and Reliability Services rates.

SCE states that copies of the filing were served upon the SCE's jurisdictional customers, the California Public Utilities Commission, the California Electricity Oversight Board, the California Independent System Operator, Pacific Gas and Electric Company, and the San Diego Gas and Electric Company.

Comment Date: 5 p.m. eastern time on September 23, 2004.

20. PacifiCorp

[Docket No. ER04-1177-000]

Take notice that on September 1, 2004, PacifiCorp submitted a Notice of Cancellation of PacifiCorp's Rate Schedule FERC No. 318 with Brigham City Corporation. PacifiCorp has requested an effective date of October 31, 2004.

PacifiCorp states that copies of the filing were served upon Brigham City Corporation; the Utah Public Service Commission; the Washington Utilities and the Transportation Commission and the Public Utility Commission of Oregon.

Comment Date: 5 p.m. eastern time on September 22, 2004.

21. PJM Interconnection, L.L.C.

[Docket No. ER04-1178-000]

Take notice that on September 1, 2004, PJM Interconnection, L.L.C. (PJM) submitted amendments to the PJM Open Access Transmission Tariff to specify that: (1) PJM will post on its OASIS each hour available transfer capability for firm transmission service, (2) requests for reservations of monthly short-term firm transmission service may be made on an hourly basis; and (3) requests for Short-Term Firm Point-To-Point Transmission Service and requests for short-term designations of Network Resources (less than one year) that require the use of interface capacity (known in PJM as Network Designated service) will be processed under the same procedures. PJM requests an effective date of November 1, 2004, for the amendments.

PJM states that copies of the filing were served upon all PJM members and each state electric utility regulatory commission in the PJM region.

Comment Date: 5 p.m. eastern time on September 22, 2004.

22. PJM Interconnection, L.L.C.

[Docket No. ER04-1179-000]

Take notice that on September 1, 2004, PJM Interconnection, L.L.C. (PJM) submitted the interim allocation of financial transmission rights (FTRs) for the zone of Dominion-Virginia Power (DVP), covering the period from its integration into PJM on November 1, 2004, until the end of PJM's current planning period on May 31, 2005.

PJM proposes an effective date of November 1, 2004, for the allocated FTRs in the DVP zone, corresponding to the DVP integration date.

PJM states that copies of the filing were served on all PJM members and the utility regulatory commissions in the PJM region.

Comment Date: 5 p.m. eastern time on September 22, 2004.

23. KGen Enterprise LLC, KGen Hinds LLC, KGen Hot Spring LLC, KGen Marshall LLC, KGen Murray I and II LLC, KGen New Albany LLC, KGen Sandersville LLC, and KGen Southaven LLC

[Docket Nos. ER04-1180-000, ER04-1181-000, ER04-1182-000, ER04-1183-000, ER04-1184-000, ER04-1185-000, ER04-1186-000, and ER04-1187-000]

Take notice that on September 1, 2004, KGen Enterprise LLC, KGen Hinds LLC, KGen Hot Spring LLC, KGen Marshall LLC, KGen Murray I and II LLC, KGen New Albany LLC, KGen Sandersville LLC and KGen Southaven LLC (collectively, the Project Companies) filed: (1) Notices of Succession to notify the Commission that, as a result of a name change, each Project Company has succeeded to the respective and corresponding FERC rate schedule of Duke Energy Enterprise, LLC, Duke Energy Hinds, LLC, Duke Energy Hot Spring, LLC, Duke Energy Marshall County, LLC, Duke Energy Murray, LLC, Duke Energy New Albany, LLC, Duke Energy Sandersville, LLC, and Duke Energy Southaven, LLC; and (2) amendments to the rate schedules to reflect the fact that the Project Companies are no longer affiliated with Duke Power (a division of Duke Energy Corporation), Duke Electric Transmission (a division of Duke Energy Corporation), or any other electric utility with a franchised service territory.

Comment Date: 5 p.m. eastern time on September 22, 2004.

24. New York Independent System Operator, Inc.

[Docket No. ER04-1188-000]

Take notice that on September 1, 2004, the New York Independent System Operator, Inc. (NYISO) submitted proposed amendments to its Market Administration and Control Area Services Tariff FERC Electric Tariff Original Volume No. 2, to remove a sunset provision for Demand Reduction Incentive Payments and to increase the minimum bid floor price for Demand Reduction Providers under the NYISO's Incentivized Day-Ahead Economic Load Curtailment Program.

NYISO states that copies of the filing were served upon each person that has executed a Service Agreement under the NYISO's Open Access Transmission Tariff or Market Administration and Control Area Services Tariff, and also upon the electric utility regulatory agencies in New York, New Jersey and Pennsylvania.

Comment Date: 5 p.m. eastern time on September 22, 2004.

25. Bay State GPE, Inc.

[Docket No. ER04-1189-000]

Take notice that on September 2, 2004, Bay State GPE, Inc. (Bay State GPE) tendered for filing a Notice of Cancellation of its FERC Rate Schedule No. 1 (market-based rate authority), originally filed in Docket No. ER99-4081-000. Bay State GPE seeks to cancel FERC Rate Schedule No. 1 effective November 1, 2004.

Bay State GPE states that, as it is not regulated by a State commission, has no long-term customers, and has no outstanding market-based rate transactions, it has not served copies of this filing upon any entity.

Comment Date: 5 p.m. eastern time on September 23, 2004.

26. Duke Energy Washington, LLC

[Docket No. ER04-1190-000]

Take notice that on September 3, 2004, Duke Energy Washington, LLC (Duke Washington) submitted revisions to its FERC Electric Tariff, Original Volume No. 1, specifically enumerating ancillary service products sold into the ancillary service markets operated by PJM Interconnection, L.L.C.; providing for the resale of firm transmission rights and other similar congestion-related contracts; and reflecting the Commission's current language preferences regarding use of an Internet site with respect to the provision of certain ancillary services and obtaining Commission approval for certain affiliate transactions.

Comment Date: 5 p.m. eastern time on September 24, 2004.

27. Duke Energy Hanging Rock, LLC

[Docket No. ER04-1191-000]

Take notice that on September 3, 2004, Duke Energy Hanging Rock, LLC (Duke Hanging Rock) submitted revisions to its FERC Electric Tariff, Original Volume No. 1, specifically enumerating ancillary service products sold into the ancillary service markets operated by PJM Interconnection, L.L.C.; providing for the resale of firm transmission rights and other similar congestion-related contracts; and reflecting the Commission's current language preferences with respect to obtaining Commission approval for certain affiliate transactions.

Comment Date: 5 p.m. eastern time on September 24, 2004.

28. Pacific Gas and Electric Company

[Docket No. ER04-1192-000]

Take notice that on September 3, 2004, Pacific Gas and Electric Company (PG&E) tendered for filing a partially executed Generator Special Facilities Agreement (GSFA) and a Generator Interconnection Agreement (GIA) between PG&E and Fresno Cogeneration Partners, LP (Fresno) for the Fresno Co-gen Expansion Project.

PG&E states that the GSFA permits it to recover its costs for installing, owning, operating and maintaining Special Facilities on PG&E's Kerman and Helms Substations necessary for the operation of generation from the new Fresno Co-gen Expansion Project. PG&E has requested certain waivers.

PG&E states that copies of this filing were served upon Fresno, the California Independent System Operator, and the California Public Utilities Commission.

Comment Date: 5 p.m. eastern time on September 24, 2004.

29. PJM Interconnection, L.L.C.

[Docket No. ER04-1193-000]

Take notice that on September 3, 2004, PJM Interconnection, L.L.C. (PJM) submitted amendments to the PJM Open Access Transmission Tariff and the Amended and Restated Operating Agreement to extend its Emergency Load Response Program and Economic Load Response Program until December 31, 2007. PJM requests an effective date of December 1, 2004, for the amendments.

PJM states that copies of the filing were served upon all PJM members and each State electric utility regulatory commission in the PJM region.

Comment Date: 5 p.m. eastern time on September 24, 2004.

30. SESCO Enterprises Canada Ltd.

[Docket No. ER04-1194-000]

Take notice that on September 3, 2004, SESCO Enterprises Canada Ltd. (SESCO) petitioned the Commission for acceptance of SESCO Rate Schedule No. 1; the granting of certain blanket approvals, including the authority to sell electricity at market-based rates; and the waiver of certain Commission regulations.

SESCO states that it intends to engage in wholesale electric power and energy purchases and sales as a marketer. SESCO further states that it is not in the business of generating or transmitting electric power and its only operating affiliate is also a marketer and is also not in the business of generating or transmitting electric power.

Comment Date: 5 p.m. eastern time on September 24, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2234 Filed 9-17-04; 8:45 am]

BILLING CODE 6717-01-P